DEPARTMENT OF AGRICULTURE

Forest Service

Notice of Proposed New Fee Sites

AGENCY: Forest Service, Agriculture (USDA).

ACTION: Notice of proposed new fee sites.

SUMMARY: The Okanogan-Wenatchee National Forest is proposing to charge new fees at 23 recreation sites listed in SUPPLEMENTARY INFORMATION of this notice. Many sites have recently been reconstructed or amenities are being added to improve services and experiences. Fees are assessed based on the level of amenities and services provided, cost of operation and maintenance, market assessment, and public comment. Funds from fees would be used for the continued operation and maintenance of these recreation sites.

DATES: If approved, the new fees would be implemented no earlier than six months following the publication of this notice in the Federal Register.

ADDRESSES: ATTN: Recreation Fee Proposals, Okanogan-Wenatchee National Forest, 215 Melody Lane, Wenatchee, WA 98801.

FOR FURTHER INFORMATION CONTACT: Suzanne Cable, Recreation Fee Coordinator, 509-664-9394, or SM.FS.FeeProposal@usda.gov.

SUPPLEMENTARY INFORMATION: The Federal Recreation Lands Enhancement Act (Title VII, Pub. L. 108-447) directed the Secretary of Agriculture to publish a six-month advance notice in the Federal Register whenever new recreation fee areas are established.

As part of this proposal, Mystery Campground, Three Creek Campground, Nice Campground, and North Fork Campground would be converted to group campgrounds offering a new opportunity for the public and available to reserve at $40-$75/night. A $5 day-use fee at Lower Echo Trailhead, Spillway Day Use Area, Upper Echo Trailhead, Blackpine Lake Picnic Area, Swiftwater Picnic Area, Conrad Meadows Trailhead, Crater Creek Trailhead, Foggy Dew Trailhead, Goat Peak Trailhead, Lower Mad River Trailhead, Penstock Trailhead, Pot Peak Trailhead, Rattlesnake Creek Trailhead, and Chickadee Trailhead would be added to improve services and facilities, and recreation passes would be honored. This proposal would also implement new fees at eight campgrounds (Antilon Lake, Crawfish Lake, Grasshopper Meadow, Lake Creek, Napeequa Crossing, North Summit Horse Camp, Rainy Creek, and White River Falls), all proposed at $10 per night. In addition, this proposal would implement new fees at four recreation rentals: Tyee Lookout proposed at $90 a night; two yurts at Lake Creek Campground (Entiat Ranger District), proposed at $75 a night; and Steliko Lookout, proposed at $75 a night. New fees would provide increased visitor opportunities, as well as increased staffing to address operations and maintenance needs and enhance customer service.

Advanced reservations for campgrounds and cabins will be available through www.recreation.gov or by calling 1-877-444-6777. The reservation service charges an $8.00 fee for reservations.

These new fees will be reviewed by a Recreation Resource Advisory Committee prior to a final decision and implementation.

Dated: September 29, 2021.
Sandra Watts,
Acting Associate Deputy Chief, National Forest System.

[FR Doc. 2021-21569 Filed 10-4-21; 8:45 am]

BILLING CODE 3411-15-P